NUCLEAR REGULATORY COMMISSION

10 CFR Part 50

RIN 3150-AH29

Risk-Informed Changes to Loss-of-Coolant Accident Technical Requirements; Extension of Comment Period

AGENCY: Nuclear Regulatory Commission.

ACTION: Proposed rule: Extension of comment period.

SUMMARY: On November 7, 2005 (70 FR 67598), the Nuclear Regulatory Commission (NRC) published for public comment a proposed rule amending its regulations to permit current power reactor licensees to implement a voluntary, risk-informed alternative to the current requirements for analyzing the performance of emergency core cooling systems during loss-of-coolant accidents. On December 6, 2005, the Nuclear Energy Institute (NEI) requested a 30 day extension to the comment period for the proposed rule. On December 20, 2005, the Westinghouse Owners Group submitted a letter endorsing the NEI extension request. The extension requests were based on the occurrence of two major holidays during the comment period which limited the time available to coordinate industry comments from owners groups, vendors, and licensees. The NRC is extending the comment period on the proposed rule by an additional 30 days from the original February 6, 2006 deadline until March 8, 2006. This comment period extension also applies to related public comments submitted on the NRC report on Seismic Considerations for the Transition Break Size (70 FR 75501).

DATES: The comment period has been extended and now expires on March 8, 2006. Comments received after this date will be considered if it is practical to do so, but the Commission is able to ensure consideration only for comments received before this date.

ADDRESSES: Mail written comments to: Secretary, U.S. Nuclear Regulatory Commission, Washington, DC 20555-0001. Attn: Rulemakings and Adjudications Staff.

Hand delivered comments should also be addressed to the Secretary, U.S. Nuclear Regulatory Commission, and delivered to: 11555 Rockville Pike, Rockville, MD, between 7:30 am and 4:15 pm Federal workdays.

You may also provide comments via the NRC's interactive rulemaking Web site http://ruleforum.llnl.gov. This site also provides the availability to upload comments as files (any format), if your web browser supports that function. For information about the interactive rulemaking site, contact Ms. Carol Gallagher, (301) 415-5905; e-mail: CAG@nrc.gov.

Certain documents relating to this rulemaking, including comments received, may be examined at the NRC Public Document Room, 11555 Rockville Pike, Room O1-F21, Rockville, MD. The same documents may also be viewed and downloaded electronically via the rulemaking Web site; http://ruleforum.llnl.gov. Documents created or received at the NRC after November 1, 1999 are also available electronically at the NRC's Public Electronic Reading room on the Internet at http://www.nrc.gov/NRC/ADAMS/index.html. From this site, the public can gain entry into the NRC's Agencywide Document Access and Management System (ADAMS), which provides text and image files of NRC's public documents. For more information, contact the NRC Public Document Room (PDR) Reference staff at 1-800-397-4209, 202-634-3273 or by e-mail to pdr@nrc.gov.

FOR FURTHER INFORMATION CONTACT: Richard F. Dudley, Office of Nuclear Reactor Regulation, U.S. Nuclear Regulatory Commission, Washington, DC 20555-0001; telephone (301) 415-1116, e-mail rfd@nrc.gov.

Dated at Rockville, Maryland, this 18th day of January, 2006.
For the Nuclear Regulatory Commission.
Annette L. Vietti-Cook,
Secretary of the Commission.

[FR Doc. E6-857 Filed 1-24-06; 8:45 am]

BILLING CODE 7590-01-P